Proclamation 8569 of September 24, 2010

Gold Star Mother’s and Families’ Day, 2010

By the President of the United States of America

A Proclamation

In a long line of heroes stretching from the greens of Lexington and Concord to the mountains of Afghanistan, selfless patriots have defended our lives and liberties with valor and honor. They have been ordinary Americans who loved their country so profoundly that they were willing to give their lives to keep it safe and free. As we pay tribute to the valiant men and women in uniform lost in battle, we also recognize the deep loss and great strength of those who share in that ultimate sacrifice: America’s Gold Star Mothers and Families.

For those in our Armed Forces who gave their last full measure of devotion, their loved ones know the high cost of our hard-won freedoms and security. An empty seat at the table and missed milestones leave a void that can never be filled, yet the legacy of our fallen heroes lives on in the people they loved. Their exceptional spirit of service dwells in the pride of Gold Star parents, who instilled the values that led these brave men and women to service. It grows in the hearts of their children, who know that, despite their absence, they gave their lives so others might be free. And, it echoes in the enduring love of their spouses—the backbone of our military families—who supported the person they cherished most in the world in serving our Nation. Though our Gold Star families have sacrificed more than most can ever imagine, they still find the courage and strength to comfort other families, support veterans, and give back to their communities.

It is from these examples of unwavering patriotism that we witness the values and ideals for which our country was founded, and for which America’s sons and daughters have laid down their lives. As members of a grateful Nation, we owe a debt we can never repay, but hold this sacred obligation forever in our hearts, minds, and actions.

The Congress, by Senate Joint Resolution 115 of June 23, 1936 (49 Stat. 1895 as amended), has designated the last Sunday in September as “Gold Star Mother’s Day.”

NOW, THEREFORE, I, BARACK OBAMA, President of the United States of America, by virtue of the authority vested in me by the Constitution and the laws of the United States, do hereby proclaim Sunday, September 26, 2010, as Gold Star Mother’s and Families’ Day. I call upon all Government officials to display the flag of the United States over Government buildings on this special day. I also encourage the American people to display the flag and hold appropriate ceremonies as a public expression of our Nation’s sympathy, support, and respect for our Gold Star Mothers and Families.

IN WITNESS WHEREOF, I have hereunto set my hand this twenty-fourth day of September, in the year of our Lord two thousand ten, and of the Independence of the United States of America the two hundred and thirty-fifth.

[FR Doc. 2010-24647

Filed 9-28-10; 11:15 am]

Billing code 3195-W0-P